DEPARTMENT OF AGRICULTURE

Submission for OMB Review; Comment Request

February 17, 2022.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by March 25, 2022. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Survey of Hemp Producers and Production Trends.

OMB Control Number: 0581-NEW.

Summary of Collection: The Agricultural Improvement Act of 2018 (2018 Farm Bill) amended the Agricultural Marketing Agreement of 1946 and was signed into law December 20, 2018, as Public Law 115-334. Sec. 10113 of the 2018 Farm Bill amended the Agricultural Marketing Act of 1946 (7 U.S.C. 1621 et seq.) by adding Subtitle G—Hemp Production. The law requires U.S. Department of Agriculture (USDA) to promulgate regulations and guidelines to develop and oversee a program for the production of hemp in the United States. The 2018 Farm Bill directs that this will include state and tribal plans, and a USDA plan for those States, including territories of Indian tribes, that choose not to submit their own plan. The 2018 Farm Bill amended the Agricultural Marketing Act of 1946 (AMA) by adding Subtitle G (sections 297A through 297D of the AMA). Section 297B of the AMA requires the Secretary of Agriculture (Secretary) to evaluate and approve or disapprove State or Tribal plans regulating the production of hemp. Section 297C of the AMA requires the Secretary to establish a Federal plan for producers in States and territories of Indian Tribes not covered by plans approved under section 297B. Lastly, section 297D of the AMA requires the Secretary to promulgate regulations and guidelines relating to the production of hemp, including sections 297B and 297C, in consultation with the U.S. Attorney General.

USDA's Agricultural Marketing Service (AMS) has partnered with the University of Kentucky to develop and administer this hemp survey. The data obtained from the survey will be used for forecasting hemp activity and to develop a representative understanding of hemp production practices and costs at national, regional, and state levels. Once the survey has been administered and the results collected, the University of Kentucky will summarize the raw data from the survey into a comprehensive report for AMS.

Need and Use of the Information: This data collection effort directly addresses two priority needs identified in the USDA Internal Symposium on Science of Industrial Hemp (May 21, 2019). Specifically, to: (a) Identify data collection and reporting for hemp markets and (b) to determine break-even production costs and range and implications for market structure. The lack of production and economic data available for stakeholder and government decision-making within this emerging industry has been further documented in Mark et. al. 2020 and was highlighted in the USDA Agricultural Outlook Forum (February 2020) hemp session with over 300 stakeholders in attendance. Ellison 2021 in conjunction with the S1084: Industrial Hemp Production, Processing, and Marketing conducted a Hemp National Needs survey and economics, and marketing information was a key area of need for the industry. Results from the survey were presented at the National Hemp Conference sponsored by USDA NIFA and Colorado State University (Summer 2020). With a newly emerging industry and no existing national data collection, to respond to the breadth of identified needs coordinated data collection efforts must be undertaken. This data collection is focused on economic data (primarily production costs) from the 2020 season. Development of the hybrid (i.e. mail and online) survey instrument has been coordinated with USDA NASS.

Risks in the hemp market are high and rapidly changing, with consistent stakeholder demands for knowledge of economics and markets on which to base decisions. There is little to no information on demand for hemp derived products and market risks are exacerbated by lack of transparency and consistency in reporting. While several private or local sources of information have emerged, quality and costs for stakeholders are variable and requests for consistent unbiased national data from USDA continue. Economic data is also critical for national policymaking including rulemaking, risk management, and resource management. For example, data dependent research questions to address economic viability questions asked by stakeholders include competition for acreage (production alternatives), global competitiveness, equity and rural development, risk management, and market outlook (including alternative products and production systems).

Description of Respondents: State, Local, and Tribal Governments.

Number of Respondents: 20,000.

Frequency of Responses: Annually.

Total Burden Hours: 10,000.

Agricultural Marketing Service

Title: LP-85—Lamb Assessment Refund Form.

OMB Control Number: 0581-NEW.

Summary of Collection: Congress has delegated to the U.S. Department of Agriculture (USDA) the responsibility for implementing and overseeing research and promotion (R&P) programs for a variety of commodities, including lamb. These programs are established under legislation. The enabling legislation for the lamb research and promotion program is the Commodity Promotion, Research, and Information Act of 1996 (Act) (7 U.S.C. 7411-7425 and 7 U.S.C. 7401).

These R&P programs carry out projects relating to research, consumer information, advertising, sales promotion, producer information, market development, and product research to assist, improve, or promote the marketing, distribution, and utilization of their respective commodities. The R&P programs are funded and directed by industry boards whose members are appointed by the Secretary of Agriculture (Secretary), who also approves the boards' budgets, plans, and projects. The latter responsibility has been delegated to AMS.

The funding for these programs is industry-specific, with assessments generating from deductions from sales by producers and importers. AMS' objective in carrying out this responsibility is to assure the following: (1) Assessment funds are collected and properly accounted for; (2) expenditures of funds are for the purposes authorized by the enabling legislation; and (3) the boards' administration of the programs conforms to legislation and USDA policy. AMS' Livestock and Poultry Program (LP) has direct oversight of the lamb R&P program. The appointed boards are responsible for collecting assessments from the persons covered under and subject to these programs. To carry out their responsibilities, these programs require the use of forms covered under OMB No. 0581-0093.

Need and Use of the Information: The Lamb Promotion, Research, and Information Order (Order) and regulations governing the lamb R&P program authorizes the Lamb Promotion, Research, and Information Board (also known as American Lamb Board (Lamb Board)) to collect and submit certain information as required. The information may be used by certain lamb feeders who seek a refund of their paid assessments.

AMS developed a form needed to effectively carry out the regulatory action that would authorize the new collection procedures of their assessment funds to the national program.

Description of Respondents: Farms; Business or other for-profit.

Number of Respondents: 50.

Frequency of Responses: Recordkeeping; Reporting: Annually.

Total Burden Hours: 150.

Levi S. Harrell,
Departmental Information Collection Clearance Officer.

[FR Doc. 2022-03840 Filed 2-22-22; 8:45 am]

BILLING CODE 3410-02-P